DEPARTMENT OF HOMELAND SECURITY

Coast Guard

46 CFR Parts 2, 24, 30, 70, 90, 91, and 188

[Docket No. USCG-2011-0363]

RIN 1625-AB71

Seagoing Barges

AGENCY: Coast Guard, DHS.

ACTION: Notice of proposed rulemaking.

SUMMARY: The Coast Guard is proposing to revise several vessel inspection and certification regulations to align them with a statutory definition of “seagoing barge” and with an exemption from inspection and certification requirements for certain seagoing barges. The proposed revisions are intended to eliminate ambiguity in existing regulations, to reduce the potential for confusion among the regulated public, and to help the Coast Guard perform its maritime safety and stewardship missions.

DATES: Comments and related material must either be submitted to our online docket via http://www.regulations.gov on or before March 11, 2013 or reach the Docket Management Facility by that date.

ADDRESSES: You may submit comments identified by docket number USCG-2011-0363 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this proposed rule, call or email Mr. William Abernathy, Vessel and Facility Operating Standards Division (CG-OES-2), Coast Guard; telephone (202) 372-1363, email William.J.Abernathy@uscg.mil. If you have questions on viewing or submitting material to the docket, call Renee V. Wright, Program Manager, Docket Operations, telephone (202) 366-9826.

SUPPLEMENTARY INFORMATION:

Table of Contents for Preamble

I. Public Participation and Request for Comments

A. Submitting Comments

B. Viewing Comments and Documents

C. Privacy Act

D. Public Meeting

II. Abbreviations

III. Regulatory History

IV. Background, Basis, and Purpose

V. Discussion of Comments on the Withdrawn Final Rule

VI. Discussion of the Proposed Rule

VII. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted without change to http://www.regulations.gov and will include any personal information you have provided.

A. Submitting Comments

If you submit a comment, please include the docket number for this rulemaking (USCG-2011-0363), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2011-0363” in the “Search” box. Click on “Submit a Comment” in the “Actions” column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this proposed rule based on your comments.

B. Viewing Comments and Documents

To view comments, as well as documents mentioned in this preamble as being available in the docket, go to http://www.regulations.gov and insert “USCG-2011-0363” in the “Search” box. Click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We do not plan to hold a public meeting, but you may submit a request for one to the docket using one of the methods specified under ADDRESSES. In your request, explain why you believe a public meeting would be beneficial. If we determine that one would aid this rulemaking, we will hold one at a time and place announced by a later notice in the Federal Register.

II. Abbreviations

CFR Code of Federal Regulations

DFR Direct final rule

DHS Department of Homeland Security

E.O. Executive order

FR Federal Register

NPRM Notice of proposed rulemaking

OCMI Officer in Charge, Marine Inspection

Pub. L. Public Law

Sec. Section

Stat. Statute

U.S.C. United States Code

III. Regulatory History

On December 14, 2011, the Coast Guard published a direct final rule (DFR) entitled “Seagoing Barges.” 76 FR 77712. The DFR relied on 33 CFR 1.05-55, which sets the parameters for Coast Guard's issuance of DFRs and stipulates that a DFR will be withdrawn if Coast Guard receives any adverse comment from the public. It further defines an “adverse” comment as one that “explains why the rule would be inappropriate * * *, or would be ineffective or unacceptable without a change.” 33 CFR 1.05-55(f). After publication of the DFR, we received two adverse comments from the same commenter, who said the rule would be ineffective without change. Those comments can be viewed by following the instructions under the “Viewing comments and documents” section of this NPRM. Accordingly, we withdrew the DFR with a notice published on April 6, 2012, and at the same time stated our intention to reconsider the changes in a notice of proposed rulemaking (NPRM). 77 FR 20727. This NPRM is substantively identical to the withdrawn DFR, except insofar as the NPRM has been modified to take the DFR's adverse comments into account.

IV. Background, Basis, and Purpose

The statutory basis for this NPRM is 46 U.S.C. 3306, which requires the Secretary of Homeland Security to prescribe regulations for Coast Guard-inspected vessels, and Executive Order (E.O.) 12988, Civil Justice Reform, section 3(a), which obligates Federal agencies to eliminate ambiguity in existing regulations. The Secretary's authority under 46 U.S.C. 3306 is delegated to the Coast Guard in DHS Delegation No. 0170.1 paragraph (92)(b). The purpose of this NPRM is to propose regulatory revisions that are intended to align Coast Guard regulations with current statutory language, thereby eliminating ambiguity that could cause confusion among the regulated public. That ambiguity arose as the result of two statutory changes that affect how seagoing barges are defined and regulated.

First, seagoing barges were once defined by law as non-self-propelled vessels of 100 gross tons and over that proceed on voyages on the high seas or ocean. In 1983, as part of a comprehensive revision of the shipping statutes in Title 46, U.S. Code, Congress provided a new definition of “seagoing barge” in 46 U.S.C. 2101(32): A non-self-propelled vessel of at least 100 gross tons making voyages beyond the statutorily defined Boundary Line.¹ In 1997, the Coast Guard amended 46 CFR 90.10-36 to align that section's definition of seagoing barge. Nevertheless, two Coast Guard regulations continue to use the pre-1983 definition.

¹ 46 U.S.C. 103, which refers to 33 U.S.C. 151. The Boundary Line is an “identifiable line[] dividing inland waters of the United States from the high seas * * *. [Boundary Lines] may not be located more than twelve nautical miles seaward of the base line from which the territorial sea is measured. These lines may differ in position for the purposes of different statutes.” 33 U.S.C. 151(b). The locations of Boundary Lines for different portions of the U.S. coastline are defined in Coast Guard regulations, 46 CFR part 7.

Second, under 46 U.S.C. 3301(6), all seagoing barges must be inspected by the Coast Guard. Accordingly, seagoing barges have been subject to Coast Guard inspection and certification regulations in 46 CFR, subchapter I. However, in 1993, Congress added 46 U.S.C. 3302(m) to exempt a seagoing barge from the section 3301(6) inspection requirement, if the barge is “unmanned” and “does not carry” either a “hazardous material as cargo” or “a flammable or combustible liquid, including oil, in bulk.”

Since the addition of section 3302(m), the Coast Guard has required seagoing barges to be inspected and certificated only if they are not subject to the exemption provided by that statute. Nevertheless, some owners or operators of unmanned barges that carry neither hazardous nor flammable/combustible materials voluntarily continue to undergo inspection and to maintain certification. This may reflect a rational business judgment, enabling the barge to switch quickly to service that is not eligible for exemption, for example to make an occasional voyage with hazardous cargo onboard. However, because eight Coast Guard regulations refer to the inspection and certification of seagoing barges without explicitly mentioning the section 3302(m) exemption, it is possible that some barge owners and operators continue to have their barges inspected and certificated only because they are unaware of the exemption. This would cause them, and Coast Guard inspectors, some unnecessary expense.

V. Discussion of Comments on the Withdrawn Direct Final Rule

During the comment period for the DFR, we received two submissions from the same commenter. We determined these to be adverse comments within the meaning of 33 CFR 1.05-55(f) and accordingly withdrew the DFR on April 6, 2012. 77 FR 20727.

The first submission related to the 46 U.S.C. 3302(m)(2) exemption from vessel inspection requirements for unmanned seagoing barges that carry neither a hazardous material as cargo, nor “a flammable or combustible liquid, including oil, in bulk.” Our DFR amended Coast Guard regulations to specify that barges to which the exemption apply are not required to undergo Coast Guard inspection or maintain certification. Those amendments did not define the volume of material that would constitute “in bulk.” The commenter said our rule would be ineffective without such a definition. We agree that, without more fully defining “in bulk,” it could be difficult for the regulated public and for the Coast Guard to know whether or not a particular barge can take advantage of the section 3302(m) exemption. The commenter pointed out that since 1996, the Coast Guard has had a policy of inspecting seagoing barges if they carry bulk flammable or combustible liquids, for the barge's own use—for example to operate an on board crane—and not as cargo, so long as the quantity of liquid amounts to at least 250 barrels. (We have placed in the docket a copy of an internal Coast Guard message dated April 18, 1996, establishing that policy.) The 250-barrel threshold is also used to define at what point a facility that transfers “oil or hazardous material in bulk” comes within the scope of 33 CFR part 154. 33 CFR 154.100(a). Although the commenter did not explicitly endorse adoption of the 250-barrel standard for determining the applicability of the section 3302(m) exemption, we think it is sensible to do so and our proposed rule defines “in bulk” as meaning a quantity, either as cargo or for the barge's operational use, of at least 250 barrels.

The second submission related to the introductory paragraph of the 46 U.S.C. 3302(m) exemption for “unmanned” seagoing barges that carry neither hazardous material nor flammable/combustible liquid in bulk. Our DFR amended Coast Guard regulations to specify that barges to which the exemption apply are not required to undergo Coast Guard inspection or maintain certification. Those amendments did not define when a vessel will be considered “unmanned.” The commenter said the rule would be ineffective without such a definition. He pointed out that even when the Coast Guard Officer in Charge, Marine Inspection (OCMI) determines that a seagoing barge needs no one on board to operate or navigate the barge, the OCMI allows persons to go on board the barge to prepare it for transfer or offloading, a practice known as “permissive manning.” Coast Guard regulations, 46 CFR 15.501 and 15.801, authorize the Coast Guard OCMI to set the manning requirements for particular vessels, “after consideration of the applicable laws, the regulations in [46 CFR part 15], and all other factors involved, such as: Emergency situations, * * * cargo carried, * * * degree of automation, use of labor saving devices, and the organizational structure of the vessel.” 46 CFR 15.501(b). The OCMI may use this discretionary authority to allow permissive manning so that the barge can fulfill its function by transferring or offloading the cargo it has carried. Permissive manning is inherently temporary in nature. Therefore, we do not think temporary permissive manning should determine whether a barge is considered “manned” or “unmanned” for purposes of the section 3302(m) exemption. Consequently, in this proposed rule, we would define “unmanned” as “unmanned for the purposes of barge operation or navigation.”

VI. Discussion of the Proposed Rule

This proposed rule would amend eight Coast Guard regulations that refer to seagoing barges.

Six of the regulations contain tables that summarize inspection and certificating requirements for various vessel types. The tables appear in 46 CFR 2.01-7, 24.05-1, 30.01-5, 70.05-1, 90.05-1, and 188.05-1. The tables indicate requirements that apply to seagoing barges without making note of the inspection exemption provided by 46 U.S.C. 3302(m), which Congress added in 1993. Public Law 103-206, 107 Stat. 2419. As first set forth in the withdrawn DFR, we are proposing to amend all of these tables to make it clear that seagoing barges are not subject to inspection and certification requirements if they are unmanned for the purposes of operating or navigating the barge, and carry neither a hazardous material as cargo nor a flammable or combustible liquid, including oil, in bulk quantities of 250 barrels or more.

We are also proposing to amend 46 CFR 90.05-25 and 91.01-10 to replace definitions of “seagoing barge” that are based on that term's pre-1983 statutory definition. Section 90.05-25 would incorporate the definition of seagoing barge contained in 46 CFR 90.10-36, which was amended in 1997 to align with the 1983 language of 46 U.S.C. 2101(32). Section 91.01-10 would be revised to incorporate that same 1983 language. As discussed in part IV of this preamble, before 1983 the “seagoing” nature of seagoing barges depended on whether or not a barge made “voyages on the high seas or ocean.” Since 1983, however, 46 U.S.C. 2101(32) has defined “seagoing” to mean that the barge makes voyages “beyond the Boundary Line.” The proposed amendments are structured differently from the amendments made to 46 CFR 90.05-25 and 91.01-10 in the DFR, but substantively would have the same impact; in both cases sections 90.05-25 and 91.01-10 would be aligned with 46 U.S.C. 2101(32). The two sections would also be revised to make it clear that only seagoing barges that are ineligible for the 46 U.S.C. 3302(m) exemption need to be inspected and certified by the Coast Guard.

VII. Regulatory Analyses

We developed this proposed rule after considering numerous statutes and executive orders related to rulemaking. Below we summarize our analyses based on these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This proposed rule has not been designated a “significant regulatory action” under section 3(f) of E.O. 12866. Accordingly, the proposed rule has not been reviewed by the Office of Management and Budget (OMB). A regulatory assessment follows:

This proposed rule would align 46 CFR 90.05-25, 46 CFR 91.01-10, and the vessel inspection tables in 46 CFR parts 2, 24, 30, 70, 90, and 188 with the current statutory definition of “seagoing barge,” (“a non-self-propelled vessel of at least 100 gross tons * * * making voyages beyond the Boundary Line;” 46 U.S.C. 2101(32)), and with the current statutory exemption for seagoing barges from inspection and certification when the barges are unmanned and not carrying hazardous material as cargo, or a flammable or combustible liquid, including oil, in bulk; 46 U.S.C. 3302(m).

Based on 46 U.S.C. 2101(32) and 46 U.S.C. 3302(m), seagoing barges that do not need inspection are those that meet all of the following characteristics:

1. Coastwise or oceans route;

2. 100 gross tons or greater;

3. Unmanned as determined by the OCMI; and

4. Not carrying hazardous material as cargo, or a flammable or combustible liquid, including oil, in bulk.

Because the Coast Guard would be aligning the text of the regulations with 46 U.S.C. 3302(m), only barges that are manned, or carrying hazardous material as cargo or a flammable or combustible liquid, including oil, in bulk would be inspected. We would define barges carrying hazardous material in bulk as those that carry 250 barrels (10,500 gallons) or more, whether or not they are carrying this material as cargo or for the barge's own operational use. It has been Coast Guard policy since 1996 to set 250 barrels as the threshold for considering cargo to be carried “in bulk,” and we use that threshold in 33 CFR 154.100(a). The alignment made by this proposed rule, if promulgated, is therefore consistent with Coast Guard policy and regulatory definitions of “in bulk.” If owners or operators choose to inspect barges that are exempt from inspection, these owners or operators do so voluntarily and would voluntarily incur the cost. Therefore, this proposed rule would not impose any additional cost to the industry.

The benefit of this proposed rule would be in eliminating regulatory ambiguity and aligning regulatory language with that of current statutes. It is Coast Guard policy not to require the inspection of seagoing barges that are eligible for the 46 U.S.C. 3302(m) exemption. Therefore, we expect the proposed rule would not have additional beneficial impacts (or cost savings) for industry.

B. Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

As previously discussed, this proposed rule would align 46 CFR 90.05-25, 46 CFR 91.01-10, and the vessel inspection table in 46 CFR parts 2, 24, 30, 70, 90, and 188 with the current statutory definition of “seagoing barge” and with the current statutory exemption for certain seagoing barges from inspection and certification.

This proposed rule, if promulgated, would not result in additional costs for small entities because the Coast Guard is aligning the text of the regulations with current statutory language. The Coast Guard currently does not require the inspection of 46 U.S.C. 3302(m)-exempt seagoing barges, so this proposed rule would impose no additional impacts (costs or cost savings) to small entities.

Therefore, the Coast Guard certifies under 5 U.S.C. 605(b) that this proposed rule, if promulgated, will not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

C. Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult Mr. William Abernathy at (202) 372-1363 or by email at William.J.Abernathy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for no new collection of information nor would it alter an existing collection of information under the Paperwork Reduction Act of 1995 (44 U.S.C. 3501-3520).

E. Federalism

A rule has implications for federalism under E.O. 13132, Federalism, if it has a substantial direct effect on the States, on the relationship between the national government and the States, or on the distribution of power and responsibilities among the various levels. We have analyzed this proposed rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

G. Taking of Private Property

This proposed rule would not cause a taking of private property or otherwise have taking implications under E.O. 12630, Governmental Actions and Interference with Constitutionally Protected Property Rights.

H. Civil Justice Reform

This proposed rule meets applicable standards in sections 3(a) and 3(b)(2) of E.O. 12988, Civil Justice Reform, to minimize litigation, eliminate ambiguity, and reduce burden.

I. Protection of Children

We have analyzed this proposed rule under E.O. 13045, Protection of Children from Environmental Health Risks and Safety Risks. This proposed rule is not an economically significant rule and would not create an environmental risk to health or risk to safety that might disproportionately affect children.

J. Indian Tribal Governments

This proposed rule does not have tribal implications under E.O. 13175, Consultation and Coordination with Indian Tribal Governments, because it would not have a substantial direct effect on one or more Indian tribes, on the relationship between the Federal Government and Indian tribes, or on the distribution of power and responsibilities between the Federal Government and Indian tribes.

K. Energy Effects

We have analyzed this proposed rule under E.O. 13211, Actions Concerning Regulations That Significantly Affect Energy Supply, Distribution, or Use. We have determined that it is not a “significant energy action” under that order because it is not a “significant regulatory action” under E.O. 12866 and is not likely to have a significant adverse effect on the supply, distribution, or use of energy.

L. Technical Standards

The National Technology Transfer and Advancement Act (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. A preliminary environmental analysis checklist supporting this determination is available in the docket where indicated under the “Public Participation and Request for Comments” section of this preamble. This proposed rule is categorically excluded under section 2.B.2, figure 2-1, paragraph (34)(a) and (d) of the Instruction. This proposed rule involves amendments to regulations which are editorial or procedural and regulations concerning documentation and inspection of vessels. We seek any comments or information that may lead to the discovery of a significant environmental impact from this proposed rule.

List of Subjects

46 CFR Part 2

Marine safety, Reporting and recordkeeping requirements, Vessels.

46 CFR Part 24

Marine safety.

46 CFR Part 30

Cargo vessels, Foreign relations, Hazardous materials transportation, Penalties, Reporting and recordkeeping requirements, Seamen.

46 CFR Part 70

Marine safety, Passenger vessels, Reporting and recordkeeping requirements.

46 CFR Part 90

Cargo vessels, Marine safety.

46 CFR Part 91

Cargo vessels, Marine safety, Reporting and recordkeeping requirements.

46 CFR Part 188

Marine safety, Oceanographic research vessels.

For the reasons discussed in the preamble, the Coast Guard proposes to amend 46 CFR parts 2, 24, 30, 70, 90, 91, and 188 as follows:

PART 2—VESSEL INSPECTIONS

1. The authority citation for part 2 continues to read as follows:

Authority: Sec. 622, Pub. L. 111-281; 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 1120 (see 46 U.S.C. App. Note prec. 1).

2. In § 2.01-7, Table 2.01-7(a) is revised to read as follows:

§ 2.01-7 Classes of vessels (including motorboats) examined or inspected and certificated.

(a) * * *

Table 2.01-7(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carr y at least 1 passenger. | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (iii) These regulations do not apply to—
|  | (A) Recreational vessels not engaged in trade.
|  | (B) Documented cargo or tank vessels issued a permit to carry 16 or fewer persons in addition to the crew.
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or | All manned barges except those covered by columns 2 and 3 | All barges carrying passengers or passengers-for-hire except those covered by column 3 | None. | All tank barges carrying cargoes listed in Table 151.05 of this chapter or unlisted cargoes that would otherwise be subject to part 151.¹ ¹¹ ¹²
|  | (C) Carry more than 12 passengers when chartered with no crew provided, or
|  | (D) Carry at least 1 passenger-for-hire and is a submersible vessel.⁷
|  | (E) Carry more than 12 passengers on an international voyage.
|  | (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.¹ ¹¹ ¹²
|  | (E) Carry more than 12 passengers on an international voyage.
|  | (F) Carry at least 1 passenger and are ferries.
(5) Sail ¹³ vessels ≤700 gross tons | All vessels carrying combustible or flammable liquid cargo in bulk.⁵ | (i) All vessels carrying more than 12 passengers on an international voyage, except recreational vessels not engaged in trade.⁷ (ii) All vessels <100 gross tons that— | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except rec reational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— | All vessels not covered by columns 2, 3, 6, and 7 | None | All vessels engaged in oceanographic research | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “ * * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 24—GENERAL PROVISIONS

3. The authority citation for part 24 continues to read as follows:

Authority: 46 U.S.C. 2113, 3306, 4104, 4302; Pub. L. 103-206; 107 Stat. 2439; E.O. 12234; 45 FR 58801, 3 CFR, 1980 Comp., p. 277; Department of Homeland Security Delegation No. 0170.1.

4. In § 24.05-1(a), Table 24.05-1(a) is revised to read as follows:

§ 24.05-1 Vessels subject to the requirements of this subchapter.

(a) * * *

Table 24.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels.2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (D) Carry at least 1 passenger-for-hire and are submersible vessels.⁷ (E) Carry more than 6 passengers and are ferries. (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. (iv) These regulations do not apply to— (A) Recreational vessels not engaged in trade. (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. (iii) These regulations do not apply to— (A) Recreational vessels not engaged in trade. (B) Documented cargo or tank vessels issued a permit to carry 16 or fewer persons in addition to the crew. | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or | All manned barges except those covered by columns 2 and 3 | All barges carrying passengers or passengers-for-hire except those covered by column 3 | None | All tank barges carrying cargoes listed in Table 151.05 of this chapter or unlisted cargoes that would otherwise be subject to part 151.1 11 12
|  | (C) Carry more than 12 passengers when chartered with no crew provided, or
|  | (D) Carry at least 1 passenger-for-hire and is a submersible vessel.⁷
|  | (E) Carry more than 12 passengers on an international voyage.
|  | (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ (E) Carry more than 12 passengers on an international voyage. (F) Carry at least 1 passenger and are ferries. | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.1 11 12
(5) Sail ¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or (C) Carry more than 12 passengers when chartered with no crew provided, or
|  | (D) Carry at least 1 passenger-for-hire and are submersible vessels.⁷ (E) Carry more than 6 passengers and are ferries. (iii) All vessels ≥100 gross tons that—
|  | (A) Carry more than 12 passengers-for-hire whether chartered or not, or (B) Carry more than 12 passengers when chartered with the crew provided, or (C) Carry more than 12 passengers when chartered with no crew provided, or (D) Carry at least 1 passenger-for-hire and are submersible vessels.⁷
|  | (E) Carry at least 1 passenger and are ferries. (iv) These regulations do not apply to— (A) Recreational vehicles not engaged in trade. (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail.¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or (C) Carry more than 12 passengers when chartered with no crew provided, or
|  | (D) Carry at least 1 passenger-for-hire and are submersible vessels.⁷ (E) Carry more than 6 passengers and are ferries. (iii) All vessels ≥100 gross tons that—
|  | (A) Carry more than 12 passengers-for-hire whether chartered or not, or (B) Carry more than 12 passengers when chartered with the crew provided, or
|  | (C) Carry more than 12 passengers when chartered with no crew provided, or (D) Carry at least 1 passenger-for-hire and are submersible vessels.⁷ (E) Carry at least 1 passenger and are ferries.
|  | (iv) These regulations do not apply to— (A) Recreational vessels not engaged in trade (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels not covered by columns 2, 3, 6, and 7 | None | All vessels engaged in oceanographic research | All vessels carrying cargoes in bulk that are listed in part 153, table 1, or part 154, table 4, or unlisted cargoes that would otherwise be subject to these parts.¹²
|  | (B) Carry more than 6 passengers when chartered with the crew provided, or (C) Carry more than 12 passengers when chartered with no crew provided, or
|  | (D) Carry at least 1 passenger-for-hire and are submersible vessels.⁷ (E) Carry more than 6 passengers and are ferries. (iii) All vessels ≥100 gross tons that—
|  | (A) Carry more than 12 passengers-for-hire whether chartered or not, or (B) Carry more than 12 passengers when chartered with the crew provided, or
|  | (C) Carry more than 12 passengers when chartered with no crew provided, or (D) Carry at least 1 passenger-for-hire and are submersible vessels.⁷ (E) Carry at least 1 passenger and are ferries.
|  | (iv) These regulations do not apply to— (A) Recreational vehicles not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 30—GENERAL PROVISIONS

5. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

6. In § 30.01-5, Table 30.01-5(d) is revised to read as follows:

§ 30.01-5 Application of regulations—TB/ALL.

* * * * *

(d) * * *

Table 30.01-5(d)
Method of propulsion, qualified by size or other limitation ¹ | Vessels inspected and certificated under Subchapter D—Tank Vessels ² | Vessels inspected and certificated under Subchapter H—Passenger Vessels ² ³ ⁴ ⁵ or Subchapter K or T—Small Passenger Vessels ² ³ ⁴ | Vessels inspected and certificated under Subchapter I—Cargo and Miscellaneous Vessels ² ⁵ | Vessels subject to the provisions of Subchapter C—Uninspected Vessels ² ³ ⁶ ⁷ ⁸ | Vessels subject to the provisions of Subchapter U—Ocean-ographic Vessels ² ³ ⁶ ⁷ ⁹ | Vessels subject to the provisions of Subchapter O— Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. (iii) These regulations do not apply to— | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (A) Recreational vessels not engaged in trade.
|  | (B) Documented cargo or tank vessels issued a permit to carry 16 or fewer persons in addition to the crew. (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or | All manned barges except those covered by columns 2 and 3 | All barges carrying passengers or passengers-for-hire except those covered by column 3 | None | All tank barges carrying cargoes listed in Table 151.05 of this chapter or unlisted cargoes that would otherwise be subject to part 151 ¹ ¹¹ ¹²
|  | (D) Carry at least 1 passenger-for-hire and is a submersible vessel.⁷
|  | (E) Carry more than 12 passengers on an international voyage. (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ (E) Carry more than 12 passengers on an international voyage. (F) Carry at least 1 passenger and are ferries. | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151 ¹ ¹¹ ¹²
(5) Sail ¹³ vessels ≤700 gross tons | All vessels carrying combustible or flammable liquid cargo in bulk.⁵ | (i) All vessels carrying more than 12 passengers on an international voyage, except recreational vessels not engaged in trade.⁷ (ii) All vessels <100 gross tons that— | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessel.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98. | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— | All vessels not covered by columns 2, 3, 6, and 7 | None | All vessels engaged in oceanographic research | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

* * * * *

PART 70—GENERAL PROVISIONS

7. The authority citation for part 70 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

8. In § 70.05-1, Table 70.05-1(a) is revised to read as follows:

§ 70.05-1 United States flag vessels subject to the requirements of this subchapter.

(a) * * *

Table 70.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Ocean-ographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels >15 gross tons carrying freight-for-hire, except those covered by columns 2 and 3. All vessels carrying dangerous cargoes, when required by 46 CFR part 98. | All vessels not covered by columns 2, 3, 4, and 6. | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that— (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. | All vessels, including recreational vessels, not engaged in trade. This does not include vessels covered by columns 2 and 3, and vessels engaged in the fishing industry. | All vessels not covered by columns 2, 3, 4, 6, and 7 | All vessels engaged in oceanographic research | All vessels carrying cargoes in bulk that are listed in part 153, table 1, or part 154, table 4, or unlisted cargoes that would otherwise be subject to these parts.¹²
|  | (iii) These regulations do not apply to—
|  | (A) Recreational vessels not engaged in trade. (B) Documented cargo or tank vessels issued a permit to carry 16 or fewer persons in addition to the crew.
|  | (C) Fishing vessels not engaged in ocean or coastwise service may carry persons on the legitimate business of the vessel ⁶ in addition to the crew, as restricted by the definition of passenger.⁷
(3) Non-self-propelled vessels <100 gross tons. | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or (D) Carry at least 1 passenger-for-hire and is a submersible vessel.⁷ (E) Carry more than 12 passengers on an international voyage. (F) Carry more than 6 passengers and are ferries. | All manned barges except those covered by columns 2 and 3. | All barges carrying passengers or passengers-for-hire except those covered by column 3. | None | All tank barges carrying cargoes listed in Table 151.05 of this chapter or unlisted cargoes that would otherwise be subject to part 151.1 11 12
(4) Non-self-propelled vessels >100 gross tons. | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ (E) Carry more than 12 passengers on an international voyage. (F) Carry at least 1 passenger and are ferries. | All seagoing barges except a seagoing barge that is covered by column 2 or 3, or that is unmanned for the purposes of operating or navigating the barge, and that carries neither a hazardous material as cargo nor a flammable or combustible liquid, including oil, in bulk quantities of 250 barrels or more. | All barges carrying passengers or passengers-for-hire except those covered by columns 3 and 6. | All seagoing barges engaged in oceanographic research. | All tank barges carrying cargoes listed in Table 151.05 of this chapter or unlisted cargoes that would otherwise be subject to part 151.1 11 12
(5) Sail ¹³ vessels ≤700 gross tons. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or | All vessels carrying dangerous cargoes, when required by 46 CFR part 98. | All vessels not covered by columns 2, 3, 4, and 6. | None | All vessels carrying cargoes in bulk that are listed in part 153, table 1, or part 154, table 4, or unlisted cargoes that would otherwise be subject to these parts.¹²
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98. | None | None | All vessels carrying cargoes in bulk that are listed in part 153, table 1, or part 154, table 4, or unlisted cargoes that would otherwise be subject to these parts.¹²
(7) Steam, vessels ≤19.8 meters (65 feet) in length. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All tugboats and towboats. All vessels carrying dangerous cargoes, when required by 46 CFR part 98. | All vessels not covered by columns 2, 3, 4, and 6. | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels not covered by columns 2, 3, 6, and 7. | None | All vessels engaged in oceanographic research. | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷ (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

* * * * *

PART 90—GENERAL PROVISIONS

9. The authority citation for part 90 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1.

10. In § 90.05-1, Table 90.05-1(a) is revised to read as follows:

§ 90.05-1 Vessels subject to requirements of this subchapter.

(a) * * *

Table 90.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels >300 gross tons | All vessels carrying combustible or flammable liquid cargo in bulk.⁵ | (i) All vessels carrying more than 12 passengers on an international voyage, except recreational vessels not engaged in trade.⁷ (ii) All vessels <100 gross tons that— | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or (C) Carry more than 12 passengers when chartered with no crew provided, or
|  | (D) Carry at least 1 passenger-for-hire and are submersible vessels.⁷
|  | (E) Carry more than 6 passengers and are ferries.
|  | (iii) All vessels >100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels >300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (iii) These regulations do not apply to—
|  | (A) Recreational vessels not engaged in trade.
|  | (B) Documented cargo or tank vessels issued a permit to carry 16 or fewer persons in addition to the crew.
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or | All manned barges except those covered by columns 2 and 3 | All barges carrying passengers or passengers-for-hire except those covered by column 3 | None | All tank barges carrying cargoes listed in Table 151.05 of this chapter or unlisted cargoes that would otherwise be subject to part 151.1 11 12
|  | (C) Carry more than 12 passengers when chartered with no crew provided, or
|  | (D) Carry at least 1 passenger-for-hire and is a submersible vessel.⁷
|  | (E) Carry more than 12 passengers on an international voyage.
|  | (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.1 11 12
|  | (E) Carry more than 12 passengers on an international voyage.
|  | (F) Carry at least 1 passenger and are ferries.
(5) Sail ¹³ vessels ≤700 gross tons | All vessels carrying combustible or flammable liquid cargo in bulk.⁵ | (i) All vessels carrying more than 12 passengers on an international voyage, except recreational vessels not engaged in trade.⁷ (ii) All vessels <100 gross tons that— | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 9. | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— | All vessels not covered by columns 2, 3, 6, and 7. | None. | All vessels engaged in oceanographic research | All vessels carrying cargoes in bulk that are listed in part 153, table 1, or part 154, table 4, or unlisted cargoes that would otherwise be subject to these parts.¹²
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
1 Where length is used in this table, it means the length measured from end to end over the deck, excluding sheer. This expression means a straight line measurement of the overall length from the foremost part of the vessel to the aftermost part of the vessel, measured parallel to the centerline.
2 Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
3 Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
4 Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
5 Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
6 Any vessel on an international voyage is subject to the requirements of the International Convention for Safety of Life at Sea, 1974 (SOLAS).
7 The terms “passenger(s)” and “passenger(s)-for-hire” are as defined in 46 U.S.C. 2101(21)(21a). On oceanographic vessels, scientific personnel onboard shall not be deemed to be passengers nor seamen, but for calculations of lifesaving equipment, etc., must be counted as persons.
8 Boilers and machinery are subject to examination on vessels over 40 feet in length.
9 Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
10 Bulk dangerous cargoes are cargoes specified in table 151.01-10(b); in table 1 of part 153, and in table 4 of part 154 of this chapter.
11 For manned tankbarges, see § 151.01-10(c) of this chapter.
12 See § 151.01-15, 153.900(d), or 154.30 of this chapter as appropriate.
13 Sail vessel means a vessel with no auxiliary machinery on board. If the vessel has auxiliary machinery, refer to motor vessels.

* * * * *

11. In § 90.05-25, paragraph (a) is revised to read as follows:

§ 90.05-25 Seagoing barge.

(a) Each seagoing barge, as defined in 46 CFR 90.10-36, is subject to inspection and certification; except that a seagoing barge is exempt from those requirements if it is unmanned for the purposes of operating or navigating the barge, and carries neither a hazardous material as cargo nor a flammable or combustible liquid, including oil, in bulk quantities of 250 barrels or more.

* * * * *

PART 91—INSPECTION AND CERTIFICATION

12. The authority citation for part 91 continues to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

13. In § 91.01-10, paragraph (c) is revised to read as follows:

§ 91.01-10 Period of validity for a Certificate of Inspection.

* * * * *

(c) The master or owner of a seagoing barge for which inspection and certification is required by 46 CFR 90.05-25(a), or the master or owner's agent, may apply for a certificate of inspection that is valid for a specific period less than 5 years, or for a specific voyage. The certificate will describe the conditions under which it is issued, and will be endorsed as applying to an unmanned seagoing barge. Paragraph (c) of this section applies if the seagoing barge-

(1) Makes a voyage beyond the Boundary Line for the sole purpose of changing employment; or

(2) Makes a voyage beyond the Boundary Line only infrequently and after doing so returns to its port of departure.

PART 188—GENERAL PROVISIONS

14. The authority citation for part 188 continues to read as follows:

Authority: 46 U.S.C. 2113, 3306; Pub. L 103-206, 107 Stat. 2439; 49 U.S.C. 5103, 5106; E.O. 12234, 45 FR 58801, 3 CFR, 1980 Comp., p. 277; Department of Homeland Security Delegation No. 0170.1.

15. In § 188.05-1, Table 188.05-1(a), is revised to read as follows:

§ 188.05-1 Vessels subject to requirements of this subchapter.

(a) * * *

Table 188.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—(A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
|  | (iii) These regulations do not apply to—(A) Recreational vessels not engaged in trade.
|  | (B) Documented cargo or tank vessels issued a permit to carry 16 or fewer persons in addition to the crew.
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that—(A) Carry more than 6 passengers-for-hire whether chartered or not, or (B) Carry more than 6 passengers when chartered with the crew provided, or (C) Carry more than 12 passengers when chartered with no crew provided, or | All manned barges except those covered by columns 2 and 3 | All barges carrying passengers or passengers-for-hire except those covered by column 3 | None | All tank barges carrying cargoes listed in Table 151.05 of this chapter or unlisted cargoes that would otherwise be subject to part 151.1 11 12
|  | (D) Carry at least 1 passenger-for-hire and is a submersible vessel.⁷
|  | (E) Carry more than 12 passengers on an international voyage.
|  | (F) Carry more than 6 passengers and are ferries.
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ | All seagoing barges except a seagoing barge that is covered by column 2 or 3, or that is unmanned for the purposes of operating or navigating the barge, and that carries neither a hazardous material as cargo nor a flammable or combustible liquid, including oil, in bulk quantities of 250 barrels or more | All barges carrying passengers or passengers-for-hire except those covered by columns 3 and 6 | All seagoing barges engaged in oceanographic research | All tank barges carrying cargoes listed in Table 151.05 of this chapter or unlisted cargoes that would otherwise be subject to part 151.1 11 12
|  | (E) Carry more than 12 passengers on an international voyage.
|  | (F) Carry at least 1 passenger and are ferries.
(5) Sail ¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—(A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to— (A) Recreational vehicles not engaged in trade.
|  | (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail ¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All vessels not covered by columns 2, 3, 6, and 7 | None | All vessels engaged in oceanographic research | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

Dated: November 16, 2012.
J.G. Lantz,
Director of Commercial Regulations and Standards, U.S. Coast Guard.

[FR Doc. 2012-30984 Filed 1-8-13; 8:45 am]

BILLING CODE 9110-04-P